NUCLEAR REGULATORY COMMISSION

[Docket Nos. STN 50-456 and STN 50-457, Byron Station, Unit Nos. 1 and 2, and Docket Nos. STN 50-454 and STN 50-455, Braidwood Station, Units 1 and 2]

Exelon Generation Comany, LLC; Biweekly Notice; Application for Amendment to the Facility Operating License Involving Proposed No Significant Hazards Considerations; Correction

AGENCY: Nuclear Regulatory Commission.

ACTION: Notice of amendment issuance; correction.

SUMMARY: This document corrects a notice appearing in the Federal Register on November 20, 2007 (72 FR 65375), that incorrectly identified the amendment numbers for Byron Station, Unit Nos. 1 and 2, and Braidwood Station, Units 1 and 2. This action is necessary to correct the erroneous amendment numbers.

FOR FURTHER INFORMATION CONTACT: Christopher Gratton, Office of Nuclear Reactor Regulation, U.S. Nuclear Regulatory Commission, Washington, DC 20555-0001; telephone (301) 415-1055, e-mail: CXG1@nrc.gov.

SUPPLEMENTARY INFORMATION: On page 65375, in the second column, in the second from the last complete paragraph, first line, the Notice is corrected to read from “Amendment Nos.: 150, 150, 145, 145,” to “Amendment Nos.: 151, 151, 146, 146.”

Dated in Rockville, Maryland, this 7th day of December 2007.
For the Nuclear Regulatory Commission.
Christopher Gratton,
Senior Project Manager, Plant Licensing Branch III-2, Division of Operating Reactor Licensing.

[FR Doc. E7-24179 Filed 12-12-07; 8:45 am]

BILLING CODE 7590-01-P